ENVIRONMENTAL PROTECTION AGENCY

[FRL-9964-68-OEI]

Privacy Act of 1974; System of Records

AGENCY: Office of Environmental Information, Environmental Protection Agency (EPA).

ACTION: Notice of a Modified System of Records.

SUMMARY: Pursuant to the provisions of the Privacy Act of 1974, the Environmental Protection Agency (EPA) is giving notice that it is amending the system of record for the National Enforcement Training Institute (NETI) Online learning management system. The SORN is being amended to change the system name from NETI Online to the NETI eLearning Center and to change the system location from the Office of Criminal Enforcement to NETI in the Office of Compliance (the NETI division). The NETI eLearning Center is used by Federal, State, Local, and Tribal environmental enforcement and compliance personnel for online distance learning. The NETI eLearning Center maintains registration information of internal and external users and records of training attendance and completion.

DATES: Persons wishing to comment on this system of records notice must do so by August 14, 2017.

ADDRESSES: Submit your comments, identified by Docket ID No. EPA-HQ-OE1-2015-0201, by one of the following methods:

• www.regulations.gov: Follow the online instructions for submitting comments.

• Email: oei.docket@epa.gov.

• Fax: 202-566-1752.

Hand Delivery: OEI Docket, EPA/DC, WJC West Building, Room 3334, 1301 Constitution Ave. NW., Washington, DC. Such deliveries are only accepted during the docket's normal hours of operation, and special arrangements should be made for deliveries.

Instructions: Direct your comments to Docket ID No. EPA-HQ-OEl-2015-0201. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment, and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at: http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically at www.regulations.gov or in hard copy at the OEI Docket, EPA/DC. WJC West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Arthur Horowitz, Senior Program Analyst, EPA National Enforcement Training Institute, OECA, 1200 Pennsylvania Avenue NW., Washington, DC 20460, Mail Code 2235A, 202-564-2612, or by email at horowitz.arthur@epa.gov.

SUPPLEMENTARY INFORMATION: The U.S. Environmental Protection Agency is giving notice that the NETI eLearning Center has replaced NETI Online, which was retired in January 2012, as the Learning Management System (LMS) for the Office of Compliance. The LMS is managed by the National Enforcement Training Institute in the Office of Compliance in OECA. The audience for the NETI eLearning Center is Federal, State, Local, and Tribal environmental enforcement and compliance personnel. The system maintains account registration information, which is password-protected. This account information includes the (1) email address; (2) first name; (3) last name; (4) name of organization (agency or company); (5) name of office or division; (6) state or territory; (7) type of organization represented; (8) employment status; and (9) primary media (e.g., CAA, CWA, RCRA, etc.) program. The system offers online distance learning and training courses for EPA and state environmental inspectors and other eligible users. Recorded in the system are course: attendance, progress, completion and examination results.

Access to the records in this system is limited to NETI employees whose official duties require using the information. Electronic data is maintained in an electronic data system, which maintains all system records. Access to the system is password protected and managed by NETI personnel. The EPA contracts with a private contractor that manages the data system on its own Fed Ramp secure servers. Users can access their own training information using their username and password. The NETI eLearning Center is contractor operated and appropriate Federal Acquisition and Regulations clauses are included in the contract. The system is operated and maintained by the National Enforcement Training Institute (NETI) in the Office of Compliance.

SYSTEM NAME AND NUMBER:

NETI eLearning Center: EPA-47

SECURITY CLASSIFICATION:

None.

SYSTEM LOCATION:

All data is stored electronically in an Agency-approved electronic data system on Fed Ramp secure servers maintained by a private IT contractor to EPA. The server is located at a facility in San Jose, California.

SYSTEM MANAGERS:

Mike Walker, Director, National Enforcement Training Institute, Environmental Protection Agency, Office of Enforcement and Compliance Assurance, 1200 Pennsylvania Avenue NW., 20460, MC 2235A.

AUTHORITY FOR MAINTENANCE OF THE SYSTEM:

Pollution Prosecution Act of 1990. 42 U.S.C. 4321.

PURPOSE(S) OF THE SYSTEM:

To manage environmental enforcement related training data.

CATEGORIES OF INDIVIDUALS COVERED BY THE SYSTEM:

Federal, state, local, and tribal personnel with NETI eLearning Center accounts.

CATEGORIES OF RECORDS IN THE SYSTEM:

The system contains student registrations and transcripts, course descriptions, course lists, course enrollees, course catalogs, and other related records.

RECORD SOURCE CATEGORIES:

Individual enrollees.

ROUTINE USES OF RECORDS MAINTAINED IN THE SYSTEM, INCLUDING CATEGORIES OF USERS AND PURPOSES OF SUCH USES:

General routine uses A, D, E, F, G, H, K and L apply to this system.

POLICES AND PRACTICES FOR STORAGE OF RECORDS:

All data is stored electronically in an electronic data system on servers maintained by a private contractor to EPA.

POLICIES AND PRACTICES FOR RETENTION AND DISPOSAL OF RECORDS:

Records stored in this system are subject to EPA's records schedule 571.

POLICIES AND PRACTICES FOR RETREIVAL OF RECORDS:

Files relating to course records are retrieved by individuals having a username and password. Users may access their course completion records.

ADMINISTRATIVE, TECHNICAL, AND PHYSICAL SAFEGUARDS:

Computer records are maintained in a secure, password-protected computer system.

RECORD ACCESS PROCEDURES:

Individuals seeking access to their own personal information in this system of record can access it using a username and individually selected password.

CONTESTING RECORD PROCEDURES:

Requests for correction or amendment must identify the record to be changed and the corrective action sought and should submit a written request to the Privacy Act Officer.

NOTIFICATION PROCEDURES:

Any individual who wants to know whether this system of records contains a record about themselves should submit a request to the Privacy Act Officer.

EXEMPTIONS PROMULGATED FOR THE SYSTEM:

None.

HISTORY:

66 FR 49947 (October, 2001)—OCEFT/NETI Training Registration and Administration Records. Establish a Privacy Act System of Records to manage environmental enforcement related training data.

Dated: May 30, 2017.
Steven Fine,
Acting Chief Information Officer.

[FR Doc. 2017-14749 Filed 7-12-17; 8:45 am]

BILLING CODE 6560-50-P